DEPARTMENT OF STATE

[Public Notice 4492]

Bureau of Educational and Cultural Affairs Request for Grant Proposals: Educational Advising Program for the Middle East and North Africa

SUMMARY: The Educational Information and Resources Branch (ECA/A/S/A), Office of Global Educational Programs, of the Bureau of Educational and Cultural Affairs, announces an open competition for educational advising in the Middle East and North Africa. Public and private non-profit organizations meeting the provisions described in Internal Revenue Code section 26 U.S.C. 501(c)(3) may submit proposals to offer overseas educational advising, orientation, and information services for international students and scholars in one or more, up to a total of nine, locations in the Middle East and North Africa.

Program Information

Overview: ECA-supported educational advising offices guide students in their pursuit of educational opportunities in the United States and prepare them for direct exposure to American values, ideas, models, and traditions. They provide up-to-date, unbiased information on the range of accredited U.S. educational institutions and work to build mutual understanding between the United States and other countries through educational exchange.

Department of State-affiliated overseas educational advising services operate in nearly five hundred locations around the world. In the Middle East and North Africa, awards will be made to support advising in Egypt, Jordan, Kuwait, Lebanon, Morocco, Syria, Tunisia, West Bank/Gaza, and Yemen. Organizations may apply to operate centers in one or more, up to the total of nine, listed locations. If support for more than one center within any particular location is requested, the proposal should provide a rationale.

The advising centers will provide information about study opportunities in the U.S., will offer group informational sessions and individual advising, and will conduct outreach to local institutions. The advising centers will provide accurate information and advising on the following topics: The U.S. education system; U.S. colleges, universities, and other higher education institutions; the application process to a U.S. university; majors and fields of study; testing requirements; life in the U.S.; visa procedures; scholarship programs and financial aid; and pre-departure orientation. Advisers will be eligible to participate in Department of State-sponsored training opportunities, to receive reference materials for the advising center from the Department of State, and to receive guidance and assistance from the Department of State's Regional Educational Advising Coordinator (REAC) located in Rabat, Morocco.

As potential students from North Africa and the Middle East express uncertainty about whether they are welcome in the U.S. and seriously consider study in other countries that advertise themselves as “safe,” student numbers from the region are declining on U.S. campuses. Proposals should describe in detail creative methods for responding to Middle Eastern/North Africa student concerns and for promoting U.S. education during unsettled times.

Guidelines: Grants will begin on January 1, 2004 and end December 31, 2004. Organizations may apply to provide advising services in one or more of the above-listed countries. Educational advising services must be provided on a regularly scheduled basis, open to the public at least 30 hours per week, with additional hours reserved for program development, administrative work, and communications. As the referral service of the U.S. Embassy, the educational advising office serves as the in-country resource on U.S. higher education.

Programs must comply with J-1 visa regulations. Please refer to Solicitation Package for further information.

Budget Guidelines

To support advising in the region, the program will award a total of up to $450,000 for all centers for a one-year period. Grants awarded to eligible organizations with less than four years of experience in conducting international exchange programs will be limited to $60,000. The Bureau encourages participants to provide maximum levels of cost sharing and funding from private sources in support of its programs.

Applicants must submit a comprehensive budget with a summary budget as well as detail reflecting both administrative and program budgets. If applying for more than one site, applicants should provide separate budgets for each location, as well as identifiable program components and activities. Overhead and indirect costs should not exceed 36% of the amount requested.

Allowable costs include the following:

A. Program costs.

(1) Advisers' salaries and benefits;

(2) Office supplies and expenses, including rent, communications, postage, shipping, utilities;

B. Indirect costs.

Please refer to the Solicitation Package for complete budget guidelines and formatting instructions.

ANNOUNCEMENT TITLE AND NUMBER: All correspondence with the Bureau concerning this RFGP should reference the above title and number ECA/A/S/A-04-08.

FOR FURTHER INFORMATION CONTACT: The Office of Global Educational Programs, Educational Information and Resources Branch, ECA/A/S/A, Room 349, U.S. Department of State, SA-44, 301 4th Street, SW., Washington, DC 20547, phone: (202) 619-5434, fax: (202) 401-1433, e-mail: jfrisbie@pd.state.gov to request a Solicitation Package. The Solicitation Package contains detailed award criteria, required application forms, specific budget instructions, and standard guidelines for proposal preparation. Please specify Bureau Program Officer Jean Frisbie on all other inquiries and correspondence.

Please read the complete Federal Register announcement before sending inquiries or submitting proposals. Once the RFGP deadline has passed, Bureau staff may not discuss this competition with applicants until the proposal review process has been completed.

To Download a Solicitation Package via Internet

The entire Solicitation Package may be downloaded from the Bureau's Web site at http://exchanges.state.gov/education/RFGPs. Please read all information before downloading.

New OMB Requirement

An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_ identifier.pdf. Please also visit the ECA Web site at http://exchanges.state.gov/education/rfgps/menu.htm for additional information on how to comply with this new directive.

Deadline for Proposals

All proposal copies must be received at the Bureau of Educational and Cultural Affairs by 5 p.m. Washington, DC time on Friday, October 24, 2003. Faxed documents will not be accepted at any time. Documents postmarked the due date but received on a later date will not be accepted. Each applicant must ensure that the proposals are received by the above deadline.

Applicants must follow all instructions in the Solicitation Package. The original and eight copies of the application should be sent to: U.S. Department of State, SA-44, Bureau of Educational and Cultural Affairs, Ref.: ECA/A/S/A-04-08, Program Management, ECA/EX/PM, Room 534, 301 4th Street, SW., Washington, DC 20547.

Applicants must also submit the “Executive Summary” and “Proposal Narrative” sections of the proposal in text (.txt) format on a PC-formatted disk. The Bureau will provide these files electronically to the Public Affairs Section at the U.S. embassy for its review.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting and other requirements.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning and ability to achieve program objectives: Detailed agenda and relevant work plan should demonstrate substantive undertakings and logistical capacity. Agenda and plan should adhere to the program overview and guidelines described above. Proposals should clearly demonstrate how the institution will meet the program's objectives and plan. Advising centers must be in place to begin work on January 1, 2004.

3. Multiplier effect/impact: Proposed programs should strengthen long-term mutual understanding, including maximum sharing of information and establishment of long-term institutional and individual linkages.

4. Support of Diversity: Proposals should demonstrate substantive support of the Bureau's policy on diversity. Achievable and relevant features should be cited in both program administration and program content.

5. Institutional Capacity: Proposed personnel and institutional resources should be adequate and appropriate to achieve the program or project's goals. Institutions should be knowledgeable about the Middle East and North Africa with governmental permission to operate in the locations listed.

6. Institution's Record/Ability: Proposals should demonstrate an institutional record of successful educational advising programs or exchange programs, including responsible fiscal management and full compliance with all reporting requirements for past Bureau grants as determined by Bureau Grant Staff. The Bureau will consider the past performance of prior recipients and the demonstrated potential of new applicants.

7. Follow-on Activities: Proposals should provide a plan for continued follow-on activity (without Bureau support) ensuring that Bureau supported programs are not isolated events.

8. Project Evaluation: Proposals should include a plan to evaluate the activity's success, both as the activities unfold and at the end of the program. A draft survey questionnaire or other technique plus description of a methodology to use to link outcomes to original project objectives is recommended. Successful applicants will be expected to submit reports semiannually.

9. Cost-effectiveness and cost-sharing: The overhead and other indirect costs of the proposal should be kept as low as possible. All other items should be necessary and appropriate. Proposals should maximize cost-sharing through other private sector support as well as institutional direct funding contributions.

10. Value to U.S.-Partner Country Relations: Proposed projects should receive positive assessments by the U.S. Department of State's geographic area desk and overseas officers of program need, potential impact, and significance in the partner countries.

Authority

Overall grant-making authority for this program is contained in the Mutual Educational and Cultural Exchange Act of 1961, Public Law 87-256, as amended, also known as the Fulbright-Hays Act. The purpose of the Act is “to enable the government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: August 9, 2003.
C. Miller Crouch,
Principal Deputy Assistant Secretary, Bureau of Educational and Cultural Affairs, Department of State.

[FR Doc. 03-23859 Filed 9-17-03; 8:45 am]

BILLING CODE 4710-05-P